FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicant

Dynamo Xpress, Inc., 10 East Merrick Road, Valley Stream, NY 11580. Officers: Shlomo Greenberg, Vice President (Qualifying Individual), Guy Usi, President.

Ocean Freight Forwarder—Ocean Transportation Intermediary Applicant

MAC Shipping, Inc., 1375 NW. 97th Avenue Bay #7, Miami, FL 33172. Officers: Katia Ninoska Mendez, Vice President (Qualifying Individual), Marco A. Carranza, President.

Dated: January 20, 2006.
Bryant L. VanBrakle,
Secretary.

[FR Doc. E6-918 Filed 1-24-06; 8:45 am]

BILLING CODE 6730-01-P